DEPARTMENT OF ENERGY

Federal Energy Regulatory Commission

[Docket Nos. PR04-6-005; PR04-6-006; PR07-5-002; PR07-5-003]

Cranberry Pipeline Corporation; Notice of Compliance Filings

February 21, 2008.

Take notice that on February 13, 2008, Cranberry Pipeline Corporation (Cranberry) made two filings to comply with the letter order issued on December 14, 2007, (December 14, 2007 order).¹ In Docket Nos. PR04-7-005 and PR07-5-002, Cranberry filed a Report of Refunds in compliance with the Commission's December 14, 2007 order, and in Docket Nos. PR04-7-006 and PR07-5-003, Cranberry filed a revised Statement of Operating Conditions in compliance with the Commission's December 14, 2007 order.

¹ Letter Order issued December 14, 2007, in Docket Nos. PR04-6-002, PR04-6-003, PR04-6-004, PR07-5-000 and PR07-5-001, (2007).

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please email FERCOnlineSupport@ferc.gov, or call (866) 208-3676 (toll free). For TTY, call (202) 502-8659.

Comment Date: 5 p.m. Eastern Time February 26, 2008.

Kimberly D. Bose,
Secretary.

[FR Doc. E8-3727 Filed 2-27-08; 8:45 am]

BILLING CODE 6717-01-P